CIVIL RIGHTS COLD CASE RECORDS REVIEW BOARD

[Agency Docket Number: CRCCRRB-2025-0017-N]

Notice of Formal Determination on Records Release

AGENCY: Civil Rights Cold Case Records Review Board.

ACTION: Notice.

SUMMARY: The Civil Rights Cold Case Records Review Board received 4,701 pages of records from the National Archives and Records Administration (NARA), the Department of Justice, and the Federal Bureau of Investigation (FBI) related to five civil rights cold case incidents to which the Review Board assigned the unique identifiers 2023-002-006, 2023-002-013, 2024-003-011, 2024-003-034, and 2024-003-065. NARA, the Department of Justice, and the FBI proposed 1,231 postponements in the records related to incidents 2023-002-006 and 2023-002-013. The Department of Justice and the FBI later withdrew 115 of the postponements the agencies proposed. On June 6, 2025 and June 13, 2025, the Review Board met and approved 299 postponements and portions of 29 additional postponements, and determined that 4,550 pages in full and 151 pages in part should be publicly disclosed in the Civil Rights Cold Case Records Collection. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2023-002-006 | 2024-NARA-02-0001 through 2024-NARA-02-0006 | Reject.
2023-002-006 | 2024-NARA-02-0007 | Approve with changes.
2023-002-006 | 2024-NARA-02-0008 | Approve.
2023-002-006 | 2024-NARA-02-0009 | Approve with changes.
2023-002-006 | 2024-NARA-02-0010 | Approve.
2023-002-006 | 2024-NARA-02-0011 | Approve with changes.
2023-002-006 | 2024-NARA-02-0012 through 2024-NARA-02-0018 | Reject.
2023-002-006 | 2024-DOJ-02-0330 | Reject.
2023-002-006 | 2024-DOJ-02-0331 | Approve with changes.
2023-002-006 | 2024-DOJ-02-0332 through 2024-DOJ-02-0351 | Reject.
2023-002-006 | 2024-DOJ-02-0352 | Approve.
2023-002-006 | 2024-DOJ-02-0353 through 2024-DOJ-02-0355 | Reject.
2023-002-006 | 2024-DOJ-02-0356 | Approve.
2023-002-006 | 2024-DOJ-02-0357 through 2024-DOJ-02-0366 | Reject.
| 2024-DOJ-02-0367 | Approve.
2023-002-006 | 2024-DOJ-02-0368 through 2024-DOJ-02-0370 | Reject.
2023-002-006 | 2024-DOJ-02-0371 | Approve.
2023-002-006 | 2024-DOJ-02-0372 | Reject.
2023-002-006 | 2024-DOJ-02-0373 and 2024-DOJ-02-0374 | Approve.
2023-002-006 | 2024-DOJ-02-0375 through 2024-DOJ-02-0377 | Reject.
2023-002-006 | 2024-DOJ-02-0378 | Approve.
2023-002-006 | 2024-DOJ-02-0379 | Reject.
2023-002-006 | 2024-DOJ-02-0380 and 2024-DOJ-02-0381 | Approve.
2023-002-006 | 2024-DOJ-02-0382 through 2024-DOJ-02-0385 | Reject.
2023-002-006 | 2024-DOJ-02-0386 and 2024-DOJ-02-0387 | Approve.
2023-002-006 | 2024-DOJ-02-0388 and 2024-DOJ-02-0389 | Reject.
2023-002-006 | 2024-DOJ-02-0390 | Approve.
2023-002-006 | 2024-DOJ-02-0391 | Reject.
2023-002-006 | 2024-DOJ-02-0392 | Approve.
2023-002-006 | 2024-DOJ-02-0393 | Reject.
2023-002-006 | 2024-DOJ-02-0394 | Approve.
2023-002-006 | 2024-DOJ-02-0395 | Reject.
2023-002-006 | 2024-DOJ-02-0396 | Approve.
2023-002-006 | 2024-DOJ-02-0397 through 2024-DOJ-02-0399 | Reject.
2023-002-006 | 2024-DOJ-02-0400 | Approve.
2023-002-006 | 2024-DOJ-02-0401 through 2024-DOJ-02-0409 | Reject.
2023-002-006 | 2024-DOJ-02-0410 | Approve.
2023-002-006 | 2024-DOJ-02-0411 through 2024-DOJ-02-0413 | Reject.
2023-002-006 | 2024-DOJ-02-0414 | Approve.
2023-002-006 | 2024-DOJ-02-0415 | Withdrawn by agency.
2023-002-006 | 2024-DOJ-02-0416 through 2024-DOJ-02-0421 | Reject.
2023-002-006 | 2024-DOJ-02-0422 | Approve.
2023-002-006 | 2024-DOJ-02-0423 | Reject.
2023-002-006 | 2024-DOJ-02-0424 | Approve.
2023-002-006 | 2024-DOJ-02-0425 through 2024-DOJ-02-0427 | Reject.
2023-002-006 | 2024-DOJ-02-0428 | Approve.
2023-002-006 | 2024-DOJ-02-0429 through 2024-DOJ-02-0431 | Reject.
2023-002-006 | 2024-DOJ-02-0432 | Approve.
2023-002-006 | 2024-DOJ-02-0433 through 2024-DOJ-02-0439 | Reject.
2023-002-006 | 2024-DOJ-02-0440 | Approve.
2023-002-006 | 2024-DOJ-02-0441 through 2024-DOJ-02-0450 | Reject.
2023-002-006 | 2024-DOJ-02-0451 | Approve.
2023-002-006 | 2024-DOJ-02-0452 through 2024-DOJ-02-0455 | Reject.
2023-002-006 | 2024-DOJ-02-0456 | Approve.
2023-002-006 | 2024-DOJ-02-0457 through 2024-DOJ-02-0459 | Reject.
2023-002-006 | 2024-DOJ-02-0460 | Approve.
2023-002-006 | 2024-DOJ-02-0461 through 2024-DOJ-02-0463 | Reject.
2023-002-006 | 2024-DOJ-02-0464 and 2024-DOJ-02-0465 | Approve.
2023-002-006 | 2024-DOJ-02-0466 | Reject.
2023-002-006 | 2024-DOJ-02-0467 | Approve with changes.
2023-002-006 | 2024-DOJ-02-0468 | Approve.
2023-002-006 | 2024-DOJ-02-0469 through 2024-DOJ-02-0474 | Reject.
2023-002-006 | 2024-DOJ-02-0475 through 2024-DOJ-02-0477 | Approve.
2023-002-006 | 2024-DOJ-02-0478 | Reject.
2023-002-006 | 2024-DOJ-02-0479 | Approve.
2023-002-006 | 2024-DOJ-02-0480 | Reject.
2023-002-006 | 2024-DOJ-02-0481 through 2024-DOJ-02-0483 | Approve.
2023-002-006 | 2024-DOJ-02-0484 through 2024-DOJ-02-0486 | Reject.
2023-002-006 | 2024-DOJ-02-0487 | Approve.
2023-002-006 | 2024-DOJ-02-0488 through 2024-DOJ-02-0490 | Reject.
2023-002-006 | 2024-DOJ-02-0491 | Approve.
2023-002-006 | 2024-DOJ-02-0492 and 2024-DOJ-02-0493 | Reject.
2023-002-006 | 2024-DOJ-02-0494 | Approve.
2023-002-006 | 2024-DOJ-02-0495 | Reject.
2023-002-006 | 2024-DOJ-02-0496 | Approve.
2023-002-006 | 2024-DOJ-02-0497 through 2024-DOJ-02-0501 | Reject.
2023-002-006 | 2024-DOJ-02-0502 | Approve.
2023-002-006 | 2024-DOJ-02-0503 and 2024-DOJ-02-0504 | Reject.
2023-002-006 | 2024-DOJ-02-0505 | Approve with changes.
2023-002-006 | 2024-DOJ-02-0506 through 2024-DOJ-02-0511 | Reject.
2023-002-006 | 2024-DOJ-02-0512 | Approve with changes.
2023-002-006 | 2024-DOJ-02-0513 through 2024-DOJ-02-0515 | Reject.
2023-002-006 | 2024-DOJ-02-0516 and 2024-DOJ-02-0517 | Approve.
2023-002-006 | 2024-DOJ-02-0518 through 2024-DOJ-02-0523 | Reject.
2023-002-006 | 2024-DOJ-02-0524 and 2024-DOJ-02-0525 | Approve.
2023-002-006 | 2024-DOJ-02-0526 and 2024-DOJ-02-0527 | Reject.
2023-002-006 | 2024-DOJ-02-0528 | Approve with changes.
2023-002-006 | 2024-DOJ-02-0529 and 2024-DOJ-02-0530 | Reject.
2023-002-006 | 2024-DOJ-02-0531 | Withdrawn by agency.
2023-002-006 | 2024-DOJ-02-0532 through 2024-DOJ-02-0536 | Reject.
2023-002-006 | 2024-DOJ-02-0537 and 2024-DOJ-02-0538 | Approve.
2023-002-006 | 2024-DOJ-02-0539 through 2024-DOJ-02-0541 | Reject.
2023-002-006 | 2024-DOJ-02-0542 | Approve with changes.
2023-002-006 | 2024-DOJ-02-0543 and 2024-DOJ-02-0544 | Reject.
2023-002-006 | 2024-DOJ-02-0545 | Withdrawn by agency.
2023-002-006 | 2024-DOJ-02-0546 through 2024-DOJ-02-0550 | Reject.
2023-002-006 | 2024-DOJ-02-0551 and 2024-DOJ-02-0552 | Approve.
2023-002-006 | 2024-DOJ-02-0553 through 2024-DOJ-02-0555 | Reject.
2023-002-006 | 2024-DOJ-02-0556 | Approve with changes.
2023-002-006 | 2024-DOJ-02-0557 and 2024-DOJ-02-0558 | Reject.
2023-002-006 | 2024-DOJ-02-0559 | Withdrawn by agency.
2023-002-006 | 2024-DOJ-02-0560 through 2024-DOJ-02-0564 | Reject.
2023-002-006 | 2024-DOJ-02-0565 and 2024-DOJ-02-0566 | Approve.
2023-002-006 | 2024-DOJ-02-0567 through 2024-DOJ-02-0569 | Reject.
2023-002-006 | 2024-DOJ-02-0570 | Approve with changes.
2023-002-006 | 2024-DOJ-02-0571 and 2024-DOJ-02-0572 | Reject.
2023-002-006 | 2024-DOJ-02-0573 | Withdrawn by agency.
2023-002-006 | 2024-FBI-02-1020 | Reject.
2023-002-006 | 2024-FBI-02-1021 | Approve.
2023-002-006 | 2024-FBI-02-1022 and 2024-FBI-02-1023 | Reject.
2023-002-006 | 2024-FBI-02-1024 | Approve.
2023-002-006 | 2024-FBI-02-1025 through 2024-FBI-02-1027 | Reject.
2023-002-006 | 2024-FBI-02-1028 and 2024-FBI-02-1029 | Approve.
2023-002-006 | 2024-FBI-02-1030 through 2024-FBI-02-1032 | Reject.
2023-002-006 | 2024-FBI-02-1033 | Approve.
2023-002-006 | 2024-FBI-02-1034 through 2024-FBI-02-1042 | Reject.
2023-002-006 | 2024-FBI-02-1043 | Approve with changes.
2023-002-006 | 2024-FBI-02-1044 through 2024-FBI-02-1050 | Reject.
2023-002-006 | 2024-FBI-02-1051 | Approve.
2023-002-006 | 2024-FBI-02-1052 through 2024-FBI-02-1054 | Reject.
2023-002-006 | 2024-FBI-02-1055 | Approve.
2023-002-006 | 2024-FBI-02-1056 through 2024-FBI-02-1059 | Reject.
2023-002-006 | 2024-FBI-02-1060 | Approve.
2023-002-006 | 2024-FBI-02-1061 through 2024-FBI-02-1066 | Reject.
2023-002-006 | 2024-FBI-02-1067 | Approve.
2023-002-006 | 2024-FBI-02-1068 through 2024-FBI-02-1076 | Reject.
2023-002-006 | 2024-FBI-02-1077 and 2024-FBI-02-1078 | Approve.
2023-002-006 | 2024-FBI-02-1079 and 2024-FBI-02-1080 | Reject.
2023-002-006 | 2024-FBI-02-1081 | Approve with changes.
2023-002-006 | 2024-FBI-02-1082 and 2024-FBI-02-1083 | Reject.
2023-002-006 | 2024-FBI-02-1084 | Withdrawn by agency.
2023-002-006 | 2024-FBI-02-1085 | Reject.
2023-002-006 | 2024-FBI-02-1086 | Approve.
2023-002-006 | 2024-FBI-02-1087 | Reject.
2023-002-006 | 2024-FBI-02-1088 | Approve.
2023-002-006 | 2024-FBI-02-1089 through 2024-FBI-02-1096 | Reject.
2023-002-006 | 2024-FBI-02-1097 | Approve.
2023-002-006 | 2024-FBI-02-1098 and 2024-FBI-02-1099 | Withdrawn by agency.
2023-002-006 | 2024-FBI-02-1100 | Reject.
2023-002-006 | 2024-FBI-02-1101 | Approve.
2023-002-006 | 2024-FBI-02-1102 and 2024-FBI-02-1103 | Reject.
2023-002-006 | 2024-FBI-02-1104 | Approve.
2023-002-006 | 2024-FBI-02-1105 through 2024-FBI-02-1108 | Reject.
2023-002-006 | 2024-FBI-02-1109 | Approve.
2023-002-006 | 2024-FBI-02-1110 through 2024-FBI-02-1112 | Reject.
2023-002-006 | 2024-FBI-02-1113 | Approve.
2023-002-006 | 2024-FBI-02-1114 | Reject.
2023-002-006 | 2024-FBI-02-1115 | Approve.
2023-002-006 | 2024-FBI-02-1116 | Reject.
2023-002-006 | 2024-FBI-02-1117 | Approve.
2023-002-006 | 2024-FBI-02-1118 | Reject.
2023-002-006 | 2024-FBI-02-1119 | Approve.
2023-002-006 | 2024-FBI-02-1120 through 2024-FBI-02-1122 | Reject.
2023-002-006 | 2024-FBI-02-1123 | Approve.
2023-002-006 | 2024-FBI-02-1124 through 2024-FBI-02-1132 | Reject.
2023-002-006 | 2024-FBI-02-1133 | Approve.
2023-002-006 | 2024-FBI-02-1134 through 2024-FBI-02-1136 | Reject.
2023-002-006 | 2024-FBI-02-1137 | Approve.
2023-002-006 | 2024-FBI-02-1138 through 2024-FBI-02-1143 | Reject.
2023-002-006 | 2024-FBI-02-1144 | Approve.
2023-002-006 | 2024-FBI-02-1145 and 2024-FBI-02-1146 | Reject.
2023-002-006 | 2024-FBI-02-1147 | Approve with changes.
2023-002-006 | 2024-FBI-02-1148 through 2024-FBI-02-1156 | Reject.
2023-002-006 | 2024-FBI-02-1157 | Approve.
2023-002-006 | 2024-FBI-02-1158 and 2024-FBI-02-1159 | Withdrawn by agency.
2023-002-006 | 2024-FBI-02-1160 through 2024-FBI-02-1168 | Reject.
2023-002-006 | 2024-FBI-02-1169 and 2024-FBI-02-1170 | Withdrawn by agency.
2023-002-006 | 2024-FBI-02-1171 and 2024-FBI-02-1172 | Reject.
2023-002-006 | 2024-FBI-02-1173 | Withdrawn by agency.
2023-002-006 | 2024-FBI-02-1174 and 2024-FBI-02-1175 | Reject.
2023-002-006 | 2024-FBI-02-1176 and 2024-FBI-02-1177 | Withdrawn by agency.
2023-002-006 | 2024-FBI-02-1178 through 2024-FBI-02-1181 | Reject.
2023-002-006 | 2024-FBI-02-1182 | Approve.
2023-002-006 | 2024-FBI-02-1183 through 2024-FBI-02-1195 | Reject.
2023-002-006 | 2024-FBI-02-1196 through 2024-FBI-02-1200 | Withdrawn by agency.
2023-002-006 | 2024-FBI-02-1201 through 2024-FBI-02-1203 | Reject.
2023-002-006 | 2024-FBI-02-1204 | Withdrawn by agency.
2023-002-006 | 2024-FBI-02-1205 through 2024-FBI-02-1217 | Reject.
2023-002-006 | 2024-FBI-02-1218 | Approve.
2023-002-006 | 2024-FBI-02-1219 through 2024-FBI-02-1226 | Reject.
2023-002-006 | 2024-FBI-02-1227 and 2024-FBI-02-1228 | Withdrawn by agency.
2023-002-006 | 2024-FBI-02-1229 and 2024-FBI-02-1230 | Reject.
2023-002-006 | 2024-FBI-02-1231 | Withdrawn by agency.
2023-002-006 | 2024-FBI-02-1232 and 2024-FBI-02-1233 | Reject.
2023-002-006 | 2024-FBI-02-1234 through 2024-FBI-02-1236 | Withdrawn by agency.
2023-002-006 | 2024-FBI-02-1237 and 2024-FBI-02-1238 | Reject.
2023-002-006 | 2024-FBI-02-1239 | Approve.
2023-002-006 | 2024-FBI-02-1240 through 2024-FBI-02-1252 | Reject.
2023-002-006 | 2024-FBI-02-1253 through 2024-FBI-02-1257 | Withdrawn by agency.
2023-002-006 | 2024-FBI-02-1258 through 2024-FBI-02-1260 | Reject.
2023-002-006 | 2024-FBI-02-1261 | Withdrawn by agency.
2023-002-006 | 2024-FBI-02-1262 through 2024-FBI-02-1284 | Reject.
2023-002-006 | 2024-FBI-02-1285 | Approve.
2023-002-006 | 2024-FBI-02-1286 through 2024-FBI-02-1295 | Reject.
2023-002-006 | 2024-FBI-02-1296 | Approve.
2023-002-006 | 2024-FBI-02-1297 through 2024-FBI-02-1300 | Reject.
2023-002-006 | 2024-FBI-02-1301 through 2024-FBI-02-1309 | Approve.
2023-002-006 | 2024-FBI-02-1310 | Reject.
2023-002-006 | 2024-FBI-02-1311 and 2024-FBI-02-1312 | Approve.
2023-002-006 | 2024-FBI-02-1313 | Reject.
2023-002-006 | 2024-FBI-02-1314 through 2024-FBI-02-1316 | Approve.
2023-002-006 | 2024-FBI-02-1317 | Withdrawn by agency.
2023-002-006 | 2024-FBI-02-1318 | Approve.
2023-002-006 | 2024-FBI-02-1319 | Withdrawn by agency.
2023-002-006 | 2024-FBI-02-1320 and 2024-FBI-02-1321 | Approve.
2023-002-006 | 2024-FBI-02-1322 and 2024-FBI-02-1323 | Withdrawn by agency.
2023-002-006 | 2024-FBI-02-1324 and 2024-FBI-02-1325 | Reject.
2023-002-006 | 2024-FBI-02-1326 | Approve.
2023-002-006 | 2024-FBI-02-1327 | Reject.
2023-002-006 | 2024-FBI-02-1328 and 2024-FBI-02-1329 | Approve.
2023-002-006 | 2024-FBI-02-1330 | Reject.
2023-002-006 | 2024-FBI-02-1331 | Withdrawn by agency.
2023-002-006 | 2024-FBI-02-1332 | Approve.
2023-002-006 | 2024-FBI-02-1333 through 2024-FBI-02-1337 | Reject.
2023-002-006 | 2024-FBI-02-1338 through 2024-FBI-02-1340 | Approve.
2023-002-006 | 2024-FBI-02-1341 through 2024-FBI-02-1343 | Withdrawn by agency.
2023-002-006 | 2024-FBI-02-1344 and 2024-FBI-02-1345 | Approve.
2023-002-006 | 2024-FBI-02-1346 | Reject.
2023-002-006 | 2024-FBI-02-1347 | Approve.
2023-002-006 | 2024-FBI-02-1348 through 2024-FBI-02-1352 | Reject.
2023-002-006 | 2024-FBI-02-1353 | Approve.
2023-002-006 | 2024-FBI-02-1354 through 2024-FBI-02-1356 | Reject.
2023-002-006 | 2024-FBI-02-1357 | Approve.
2023-002-006 | 2024-FBI-02-1358 through 2024-FBI-02-1364 | Reject.
2023-002-006 | 2024-FBI-02-1365 | Approve.
2023-002-006 | 2024-FBI-02-1366 | Reject.
2023-002-006 | 2024-FBI-02-1367 | Approve.
2023-002-006 | 2024-FBI-02-1368 | Withdrawn by agency.
2023-002-006 | 2024-FBI-02-1369 | Reject.
2023-002-006 | 2024-FBI-02-1370 and 2024-FBI-02-1371 | Approve.
2023-002-006 | 2024-FBI-02-1372 | Reject.
2023-002-006 | 2024-FBI-02-1373 | Approve.
2023-002-006 | 2024-FBI-02-1374 and 2024-FBI-02-1375 | Reject.
2023-002-006 | 2024-FBI-02-1376 | Approve.
2023-002-006 | 2024-FBI-02-1377 through 2024-FBI-02-1379 | Reject.
2023-002-006 | 2024-FBI-02-1380 | Approve.
2023-002-006 | 2024-FBI-02-1381 through 2024-FBI-02-1384 | Reject.
2023-002-006 | 2024-FBI-02-1385 | Approve.
2023-002-006 | 2024-FBI-02-1386 | Reject.
2023-002-006 | 2024-FBI-02-1387 | Approve.
2023-002-006 | 2024-FBI-02-1388 | Reject.
2023-002-006 | 2024-FBI-02-1389 | Approve.
2023-002-006 | 2024-FBI-02-1390 | Reject.
2023-002-006 | 2024-FBI-02-1391 | Approve.
2023-002-006 | 2024-FBI-02-1392 through 2024-FBI-02-1394 | Reject.
2023-002-006 | 2024-FBI-02-1395 | Approve.
2023-002-006 | 2024-FBI-02-1396 through 2024-FBI-02-1404 | Reject.
2023-002-006 | 2024-FBI-02-1405 | Approve.
2023-002-006 | 2024-FBI-02-1406 through 2024-FBI-02-1408 | Reject.
2023-002-006 | 2024-FBI-02-1409 | Approve.
2023-002-006 | 2024-FBI-02-1410 through 2024-FBI-02-1415 | Reject.
2023-002-006 | 2024-FBI-02-1416 | Approve.
2023-002-006 | 2024-FBI-02-1417 and 2024-FBI-02-1418 | Reject.
2023-002-006 | 2024-FBI-02-1419 | Approve with changes.
2023-002-006 | 2024-FBI-02-1420 through 2024-FBI-02-1425 | Reject.
2023-002-013 | 2024-NARA-02-0019 | Approve.
2023-002-013 | 2024-NARA-02-0020 through 2024-NARA-02-0035 | Reject.
2023-002-013 | 2024-DOJ-02-0574 through 2024-DOJ-02-0592 | Reject.
2023-002-013 | 2024-DOJ-02-0593 and 2024-DOJ-02-0594 | Approve.
2023-002-013 | 2024-DOJ-02-0595 | Reject.
2023-002-013 | 2024-DOJ-02-0596 and 2024-DOJ-02-0597 | Approve.
2023-002-013 | 2024-DOJ-02-0598 | Reject.
2023-002-013 | 2024-DOJ-02-0599 and 2024-DOJ-02-0600 | Approve.
2023-002-013 | 2024-DOJ-02-0601 | Reject.
2023-002-013 | 2024-DOJ-02-0602 through 2024-DOJ-02-0604 | Approve.
2023-002-013 | 2024-DOJ-02-0605 through 2024-DOJ-02-0620 | Reject.
2023-002-013 | 2024-DOJ-02-0621 through 2024-DOJ-02-0639 | Withdrawn by agency.
2023-002-013 | 2024-DOJ-02-0640 and 2024-DOJ-02-0641 | Reject.
2023-002-013 | 2024-DOJ-02-0642 | Approve.
2023-002-013 | 2024-DOJ-02-0643 | Reject.
2023-002-013 | 2024-DOJ-02-0644 | Approve.
2023-002-013 | 2024-DOJ-02-0645 | Reject.
2023-002-013 | 2024-DOJ-02-0646 through 2024-DOJ-02-0652 | Withdrawn by agency.
2023-002-013 | 2024-DOJ-02-0653 | Reject.
2023-002-013 | 2024-DOJ-02-0654 through 2024-DOJ-02-0656 | Withdrawn by agency.
2023-002-013 | 2024-DOJ-02-0657 | Reject.
2023-002-013 | 2024-DOJ-02-0658 | Withdrawn by agency.
2023-002-013 | 2024-DOJ-02-0659 through 2024-DOJ-02-0661 | Reject.
2023-002-013 | 2024-FBI-02-1426 | Reject.
2023-002-013 | 2024-FBI-02-1427 | Approve.
2023-002-013 | 2024-FBI-02-1428 | Approve with changes.
2023-002-013 | 2024-FBI-02-1429 and 2024-FBI-02-1430 | Reject.
2023-002-013 | 2024-FBI-02-1431 and 2024-FBI-02-1432 | Approve.
2023-002-013 | 2024-FBI-02-1433 | Reject.
2023-002-013 | 2024-FBI-02-1434 through 2024-FBI-02-1436 | Approve.
2023-002-013 | 2024-FBI-02-1437 and 2024-FBI-02-1438 | Reject.
2023-002-013 | 2024-FBI-02-1439 | Approve.
2023-002-013 | 2024-FBI-02-1440 | Reject.
2023-002-013 | 2024-FBI-02-1441 through 2024-FBI-02-1445 | Approve.
2023-002-013 | 2024-FBI-02-1446 | Approve with changes.
2023-002-013 | 2024-FBI-02-1447 through 2024-FBI-02-1462 | Approve.
2023-002-013 | 2024-FBI-02-1463 | Reject.
2023-002-013 | 2024-FBI-02-1464 | Approve.
2023-002-013 | 2024-FBI-02-1465 | Approve with changes.
2023-002-013 | 2024-FBI-02-1466 through 2024-FBI-02-1468 | Approve.
2023-002-013 | 2024-FBI-02-1469 | Approve with changes.
2023-002-013 | 2024-FBI-02-1470 | Approve.
2023-002-013 | 2024-FBI-02-1471 and 2024-FBI-02-1472 | Approve with changes.
2023-002-013 | 2024-FBI-02-1473 | Approve.
2023-002-013 | 2024-FBI-02-1474 | Approve with changes.
2023-002-013 | 2024-FBI-02-1475 through 2024-FBI-02-1477 | Approve.
2023-002-013 | 2024-FBI-02-1478 through 2024-FBI-02-1481 | Reject.
2023-002-013 | 2024-FBI-02-1482 | Approve with changes.
2023-002-013 | 2024-FBI-02-1483 through 2024-FBI-02-1485 | Reject.
2023-002-013 | 2024-FBI-02-1486 through 2024-FBI-02-1500 | Approve.
2023-002-013 | 2024-FBI-02-1501 | Reject.
2023-002-013 | 2024-FBI-02-1502 | Approve.
2023-002-013 | 2024-FBI-02-1503 | Approve with changes.
2023-002-013 | 2024-FBI-02-1504 through 2024-FBI-02-1514 | Reject.
2023-002-013 | 2024-FBI-02-1515 | Approve.
2023-002-013 | 2024-FBI-02-1516 through 2024-FBI-02-1523 | Reject.
2023-002-013 | 2024-FBI-02-1524 | Approve with changes.
2023-002-013 | 2024-FBI-02-1525 and 2024-FBI-02-1526 | Reject.
2023-002-013 | 2024-FBI-02-1527 through 2024-FBI-02-1541 | Approve.
2023-002-013 | 2024-FBI-02-1542 | Reject.
2023-002-013 | 2024-FBI-02-1543 | Approve.
2023-002-013 | 2024-FBI-02-1544 | Approve with changes.
2023-002-013 | 2024-FBI-02-1545 through 2024-FBI-02-1556 | Reject.
2023-002-013 | 2024-FBI-02-1557 | Approve.
2023-002-013 | 2024-FBI-02-1558 through 2024-FBI-02-1571 | Reject.
2023-002-013 | 2024-FBI-02-1572 | Approve.
2023-002-013 | 2024-FBI-02-1573 through 2024-FBI-02-1576 | Reject.
2023-002-013 | 2024-FBI-02-1577 | Approve.
2023-002-013 | 2024-FBI-02-1578 through 2024-FBI-02-1580 | Reject.
2023-002-013 | 2024-FBI-02-1581 | Approve.
2023-002-013 | 2024-FBI-02-1582 through 2024-FBI-02-1594 | Reject.
2023-002-013 | 2024-FBI-02-1595 | Approve.
2023-002-013 | 2024-FBI-02-1596 through 2024-FBI-02-1601 | Reject.
2023-002-013 | 2024-FBI-02-1602 | Approve.
2023-002-013 | 2024-FBI-02-1603 | Reject.
2023-002-013 | 2024-FBI-02-1604 | Approve.
2023-002-013 | 2024-FBI-02-1605 and 2024-FBI-02-1606 | Reject.
2023-002-013 | 2024-FBI-02-1607 | Approve.
2023-002-013 | 2024-FBI-02-1608 through 2024-FBI-02-1617 | Reject.
2023-002-013 | 2024-FBI-02-1618 and 2024-FBI-02-1619 | Withdrawn by agency.
2023-002-013 | 2024-FBI-02-1620 | Reject.
2023-002-013 | 2024-FBI-02-1621 and 2024-FBI-02-1622 | Withdrawn by agency.
2023-002-013 | 2024-FBI-02-1623 | Reject.
2023-002-013 | 2024-FBI-02-1624 through 2024-FBI-02-1626 | Withdrawn by agency.
2023-002-013 | 2024-FBI-02-1627 | Reject.
2023-002-013 | 2024-FBI-02-1628 and 2024-FBI-02-1629 | Approve.
2023-002-013 | 2024-FBI-02-1630 | Reject.
2023-002-013 | 2024-FBI-02-1631 and 2024-FBI-02-1632 | Approve.
2023-002-013 | 2024-FBI-02-1633 | Reject.
2023-002-013 | 2024-FBI-02-1634 and 2024-FBI-02-1635 | Approve.
2023-002-013 | 2024-FBI-02-1636 | Reject.
2023-002-013 | 2024-FBI-02-1637 and 2024-FBI-02-1638 | Approve.
2023-002-013 | 2024-FBI-02-1639 | Reject.
2023-002-013 | 2024-FBI-02-1640 | Approve.
2023-002-013 | 2024-FBI-02-1641 through 2024-FBI-02-1644 | Reject.
2023-002-013 | 2024-FBI-02-1645 | Approve.
2023-002-013 | 2024-FBI-02-1646 through 2024-FBI-02-1648 | Reject.
2023-002-013 | 2024-FBI-02-1649 | Approve.
2023-002-013 | 2024-FBI-02-1650 | Withdrawn by agency.
2023-002-013 | 2024-FBI-02-1651 through 2024-FBI-02-1714 | Reject.
2023-002-013 | 2024-FBI-02-1715 through 2024-FBI-02-1728 | Approve.
2023-002-013 | 2024-FBI-02-1729 | Reject.
2023-002-013 | 2024-FBI-02-1730 | Approve.
2023-002-013 | 2024-FBI-02-1731 | Reject.
2023-002-013 | 2024-FBI-02-1732 and 2024-FBI-02-1733 | Withdrawn by agency.
2023-002-013 | 2024-FBI-02-1734 | Approve.
2023-002-013 | 2024-FBI-02-1735 | Reject.
2023-002-013 | 2024-FBI-02-1736 | Approve.
2023-002-013 | 2024-FBI-02-1737 | Reject.
2023-002-013 | 2024-FBI-02-1738 through 2024-FBI-02-1760 | Approve.
2023-002-013 | 2024-FBI-02-1761 and 2024-FBI-02-1762 | Reject.
2023-002-013 | 2024-FBI-02-1763 | Approve.
2023-002-013 | 2024-FBI-02-1764 | Reject.
2023-002-013 | 2024-FBI-02-1765 and 2024-FBI-02-1766 | Approve.
2023-002-013 | 2024-FBI-02-1767 through 2024-FBI-02-1789 | Reject.
2023-002-013 | 2024-FBI-02-1790 | Approve.
2023-002-013 | 2024-FBI-02-1791 through 2024-FBI-02-1817 | Reject.
2023-002-013 | 2024-FBI-02-1818 through 2024-FBI-02-1823 | Approve.
2023-002-013 | 2024-FBI-02-1824 through 2024-FBI-02-1828 | Withdrawn by agency.
2023-002-013 | 2024-FBI-02-1829 | Approve.
2023-002-013 | 2024-FBI-02-1830 | Approve with changes.
2023-002-013 | 2024-FBI-02-1831 | Approve.
2023-002-013 | 2024-FBI-02-1832 through 2024-FBI-02-1846 | Withdrawn by agency.
2023-002-013 | 2024-FBI-02-1847 | Approve.
2023-002-013 | 2024-FBI-02-1848 | Approve with changes.
2023-002-013 | 2024-FBI-02-1849 | Approve.
2023-002-013 | 2024-FBI-02-1850 through 2024-FBI-02-1852 | Withdrawn by agency.
2023-002-013 | 2024-FBI-02-1853 | Approve with changes.
2023-002-013 | 2024-FBI-02-1854 | Withdrawn by agency.
2023-002-013 | 2024-FBI-02-1855 through 2024-FBI-02-1859 | Approve.
2023-002-013 | 2024-FBI-02-1860 | Reject.
2023-002-013 | 2024-FBI-02-1861 and 2024-FBI-02-1862 | Withdrawn by agency.
2023-002-013 | 2024-FBI-02-1863 | Approve.
2023-002-013 | 2024-FBI-02-1864 through 2024-FBI-02-1867 | Withdrawn by agency.
2023-002-013 | 2024-FBI-02-1868 and 2024-FBI-02-1869 | Reject.
2023-002-013 | 2024-FBI-02-1870 and 2024-FBI-02-1871 | Approve.
2023-002-013 | 2024-FBI-02-1872 | Reject.
2023-002-013 | 2024-FBI-02-1873 through 2024-FBI-02-1875 | Approve.
2023-002-013 | 2024-FBI-02-1876 | Withdrawn by agency.
2023-002-013 | 2024-FBI-02-1877 and 2024-FBI-02-1878 | Approve.
2023-002-013 | 2024-FBI-02-1879 | Withdrawn by agency.
2023-002-013 | 2024-FBI-02-1880 through 2024-FBI-02-1882 | Approve.
2023-002-013 | 2024-FBI-02-1883 | Withdrawn by agency.

(Authority: Pub. L. 115-426, 132 Stat. 5489 (44 U.S.C. 2107))

Dated: June 17, 2025.
Stephannie Oriabure,
Chief of Staff.

[FR Doc. 2025-11432 Filed 6-20-25; 8:45 am]

BILLING CODE 6820-SY-P